DEPARTMENT OF ENERGY

Federal Energy Regulatory Commission

[Project No. 2474-004]

Oswego River Project; Notice of Settlement Agreement and Soliciting Comments

February 24, 2004.

Take notice that following settlement agreement has been filed with the Commission and is available for public inspection.

a. Type of Application: Settlement agreement on resolution of issues related to licensing of the Oswego River Project.

b. Project No.: P-2474-004.

c. Date filed: February 19, 2004.

d. Applicant: Erie Boulevard, L.P.

e. Name of Project: Oswego River Project.

f. Location: On the Oswego River in Oswego County, New York.

g. Filed Pursuant to: Rule 602 of the Commission's rules of practice and procedure, 18 CFR 385.602

h. Applicant Contact: Jerry L. Sabattis, Reliant Energy, 225 Greenfield Parkway, Suite 201, Liverpool, New York, 13088, (315) 413-2787.

FERC Contact: John Costello, (202) 502-6119, john.costello@ferc.gov.

j. Deadline for Filing Comments: 20 days from the issuance date of this notice; reply comments are due 30 days from the issuance date of this notice.

All documents (original and eight copies) should be filed with: Magalie R. Salas, Secretary, Federal Energy Regulatory Commission, 888 First Street, NE., Washington, DC 20426.

The Commission's rules of practice require all interveners filing documents with the Commission to serve a copy of that document on each person on the official service list for the Project. Further, if an intervener files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Reliant Energy filed on behalf of Erie Boulevard, L.P. (Erie) and the Adirondack Mountain Club, Izaak Walton League, New York Rivers United, New York State Conservation Council, New York State Department of Environmental Conservation, Trout Unlimited, U.S. Department of the Interior, Fish and Wildlife Service, and U.S. Department of the Interior, National Park Service a settlement agreement on the resolution of issues related to the licensing proceeding for the Oswego River Project. The settlement includes measures for enhancing aquatic habitat, fish movement and fishing opportunities, riparian vegetation, wetland and wildlife, and recreational access. In addition, the settlement includes an agreement among the parties to modify the terms and conditions of the upstream Oswego Falls Project, No. 5984, license so that it will be compatible with the various protection, mitigation, and enhancement measures pertaining to the Oswego River Project. Erie intents to file an application to amend the license for the Oswego Falls Project within 90 days of the date of the settlement agreement.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or TTY, (202) 502-8659. A copy is also available for inspection and reproduction at the address in item h above.

You may also register online at http://ferc.gov/docs-filing/esubscription.asp to be notified via email of new filings and issuances related to this or other pending projects. For assistance, contact FERC Online Support.

Magalie R. Salas,
Secretary.

[FR Doc. E4-424 Filed 2-27-04; 8:45 am]

BILLING CODE 6717-01-P